DEPARTMENT OF THE INTERIOR

Minerals Management Service

Agency Information Collection Activities: Submitted for Office of Management and Budget (OMB) Review; Comment Request

AGENCY: Minerals Management Service (MMS), Interior.

ACTION: Notice of extension of a currently approved information collection (OMB control number 1010-0053).

SUMMARY: To comply with the Paperwork Reduction Act of 1995 (PRA), we are submitting to OMB for review and approval an information collection request (ICR), titled “30 CFR 250, Subpart D, Oil and Gas Drilling Operations.” We are also soliciting comments from the public on this ICR.

DATES: Submit written comments by August 24, 2000.

ADDRESSES: You may submit comments directly to the Office of Information and Regulatory Affairs, OMB, Attention: Desk Officer for the Department of the Interior (1010-0053), 725 17th Street, NW, Washington, DC 20503. Mail or hand carry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR 250, Subpart D, Oil and Gas Drilling Operations

OMB Control Number: 1010-0053.

Abstract: The Outer Continental Shelf (OCS) Lands Act, 43 U.S.C. 1331 et seq., requires the Secretary of the Interior to preserve, protect, and develop oil and gas resources in the OCS; make such resources available to meet the Nation's energy needs as rapidly as possible; balance orderly energy resources development with protection of the human, marine, and coastal environment; ensure the public a fair and equitable return on the resources offshore; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to the Minerals Management Service (MMS).

The MMS uses the information to determine the condition of a drilling site to prevent hazards inherent in drilling operations. Among other things, MMS specifically uses the information to ensure: (a) The drilling unit is fit for the intended purpose; (b) the lessee will not encounter geologic conditions that present a hazard to operations; (c) equipment is maintained in a state of readiness and meets safety standards; (d) each drilling crew is properly trained and able to promptly perform well-control activities at any time during well operations; (e) compliance with safety standards; and (f) the proposed field drilling rules will provide for safe and proper field or reservoir development, resource evaluation, conservation, protection of correlative rights, safety, and environmental protection. We also review well records to determine whether drilling operations have encountered hydrocarbons or H2S and to ensure that H2S detection equipment, personnel protective equipment, and training of the crew are adequate for safe operations in zones known to contain H2S and zones where the presence of H2S is unknown.

We protect proprietary information that is submitted according to the Freedom of Information Act (5 U.S.C. 552), and its implementing regulations (43 CFR 2), and 30 CFR 250.196. No items of a sensitive nature are collected. Responses are mandatory.

We published a Federal Register notice with the required 60-day comment period on April 17, 2000 (65 FR 20484). We received no comments in response to that notice.

Frequency: The frequency of reporting varies according to requirement (see following burden chart).

Estimated Number and Description of Respondents: Approximately 130 Federal OCS oil, gas, and sulphur lessees.

Estimated Annual Reporting and Recordkeeping “Hour” Burden: 113,827 hours (see following burden chart).

Estimated Annual Recordkeeping “Non-Hour Cost” Burden: We have identified no non-hour cost burdens associated with this collection of information.

Burden Breakdown
Citation 30 CFR 250 subpart D | Reporting and recordkeeping requirement (frequency) | Number | Burden (hours) | Annual burden hours
401(a)(3), (c), (d) | Submit new fitness of drilling reports (on occasion) | 30 reports | 1 hour | 30
401(a)(3), (f) | Apply for installation of fixed drilling platforms or structures; provide 3rd party review of drilling unit |  | Burden included in 1010-0058 (30 CFR 250, subpart I) | 0
401(e)(1) | Submit plans for well testing; notify MMS before testing (on occasion) | 25 plans | 2 hours | 50
401(e)(5) | Provide copy of directional survey to affected leaseholder upon request (on occasion) | 13 occasions | 1 hour | 13
401(g) | Request approval not to shut-in well during equipment movement (on occasion) | 15 requests | 1 hour | 15
401(g) (MMS condition of approval) | Notify MMS of drilling rig movement on or off drilling location (on occasion) | 1,210 notices | .1 hour | 121
404(a), (b), (c); 405(a), (b), (c) | Submit revised casing & cementing program (on occasion) | 20% of 1,105 drilling operations = 221 | 2 hours | 442
405(c) | Pressure test or evaluate casing; submit results (every 30 days during prolonged drilling) | 20% of 1,108 wells = 221.6 | 5 hours | 1,108
408(a)(2) | Prepare & post well control drill plan for crew members (on occasion) | 33 plans | 3 hours | 99
412 | Request to amend or cancel field drilling rules (on occasion) | 8 requests | 2.7 hours | ¹ 22
414 incl. various refs in 402, 404, 405, 406, 407, 409, 410, 411 | Apply for permit to drill & supplemental required information, including various other approvals required in subpart D | Burden covered under 1010-0044 &/or 1010-0132 (forms MMS-123 and MMS-123S) |  | 0
415; 416(b), (e) | Submit forms MMS-124, Sundry Notices & Reports on Wells, & MMS-125, Well Summary Report | Burden included in 1010-0045 or 1010-0046) |  | 0
416 | Submit well records & other data as requested (daily; on occasion; note in GOMR, daily drilling reports submitted weekly on form MMS-133, burden under 1010-0132) | 20% of 13 wells = 2.6 (Pacific Region only) | 3 hours | ¹ 8
417(c)(1), (c)(2), (c)(3) | Request classification for presence of H2S | Submitted with APD; burden included in 1010-0044 |  | 0
417(c)(4), (d) | Submit request for reclassification of H2S zone; notify MMS if conditions change (on occasion) | 33 responses | 1.7 hours | ¹ 56
417(f), (j)(12) | Submit contingency plans for operations in H2S areas; propose alternatives to minimize or eliminate SO2 hazards (on occasion) | 47 plans (21 drill, 13 workover, 13 production.) | 10 hours | 470
417(i) | Display warning signs | Not applicable; facilities would display warning signs & use other visual & audible systems |  | 0
417(j)(13)(vi) | Label breathing air bottles | Not applicable; supplier normally labels bottles; facilities would routinely label if not |  | 0
417(l) | Notify (phone) MMS of unplanned H2S releases (on occasion) | 65 facilities × 2 = 130 | .2 hour | 26
417(o)(5) | Request approval to use drill pipe for well testing (on occasion) | 4 requests | 2 hours | 8
417(q)(1) | Seal & mark for the presence of H2S cores to be transported | Not applicable: facilities would mark transported cores |  | 0
417(q)(9) | Request approval to use gas containing H2S for instrument gas (on occasion) | 4 requests | 2 hours | 8
417(q)(12) | Analyze produced water disposed of for H2S content & submit results to MMS (on occasion, apprx. weekly) | 8 production platforms × 52 = 416 | 2.8 hour | ¹ 1,165 (rounded)
Reporting Subtotal |  | 2,413 Responses |  | 3,641
401(b)(1) | Check drilling unit safety device; record results (weekly) | 138 drilling rigs × 52 = 7,176 | .1 hour | ¹ 718
404(a)(5), (6) | Perform pressure-integrity & pore-pressure tests; record results of tests & hole-behavior observations (on occasion) | 485 tests | 4 hours | 1,455
405(a), (b) | Perform casing pressure & production liner lap tests; record results (on occasion) | 138 drilling rigs × apprx. 50 per rig = 6,900 | 2 hours | 13,800
407 tests; 407(h) | Perform BOP tests, actuations & inspections; record results; retain records 2 years following completion (when installed; at a minimum every 14 days; as stated for components of drilling activity) | 138 drilling rigs × apprx. 35 per rig = 4,830 | 6 hours | 28,980
407(d)(5) test; 407(h) | Function test annulars and rams; document results (every 7 days between BOP tests-biweekly; note: part of BOP test when conducted) | 139 drilling rigs × appx. 20 per rig = 2,780 | .16 hour | ¹ 445
407(e) | Record reason for postponing BOP test (on occasion) | 139 drilling rigs × 2 = 278 | .1 hour | ¹ 28
408(a)(3), (a)(4) | Perform well-control drills; record operations (weekly for 2 crews=104) | 138 drilling rigs × 104 = 14,352 | 1 hour | 14,352
409(f) | Test diverter sealing element, valves & control system when installed & subsequent actuation; record results (on occasion; daily/weekly during drilling; average 2 per drilling operation) | 1,104 drilling operations × 2 = 2,208 | 2 hours | 4,416
410(b), (c), (d) | Perform mud tests & calculations; post information; record test data (on occasion, daily, weekly, quarterly) | 135 drilling rigs × 52 = 7,020 3 drilling rigs × 365 = 1,095 | 1.5 hours 1.5 hours | 10,530 ¹ 1,643
413 | Maintain training records for lessee & drilling contractor personnel | Burden included in 1010-0078, 30 CFR 250, subpart O |  | 0
416(a), (g) | Maintain drilling & well records (annual recordkeeping) | 1,138 wells | 1.5 hours | 1,707
417(g)(2), (g)(5) | Conduct training; post safety instructions; document training (on occasion; annual refresher) | 62 facilities × 2 = 124 | 2 hours | 248
417(h)(2) | Conduct drills & safety meetings; document attendance (weekly) | 62 facilities × 52 = 3,224 | 1 hour | 3,224
417(j)(8) | Test H2S detection & monitoring sensors during drilling; record testing & calibrations (apprx. 12 sensors per rig; on occasion, daily during drilling) | 33 drilling rigs × 365 days = 12,045 | 2 hours | 24,090
417(j)(8) | Test H2S detection & monitoring sensors during production; record testing & calibrations (apprx. 30 sensors on 5 platforms + apprx. 42 sensors on 23 platforms; every 14 days) | 50 production platforms × 26 weeks = 1,300 | 3.5 hours | 4,550
Recordkeeping Subtotal |  | 130 Recordkeepers |  | 110,186
TOTAL HOUR BURDEN |  | 2,543 Responses/Recordkeepers |  | 113,827
¹ Rounded.

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *”

Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

If you wish to comment in response to this notice, send your comments directly to the offices listed under the ADDRESSES section of this notice. The OMB has up to 60 days to approve or disapprove the information collection but may respond after 30 days. Therefore, to ensure maximum consideration, OMB should receive public comments by August 24, 2000.

MMS Information Collection Clearance Officer: Jo Ann Lauterbach, (202) 208-7744).

Dated: July 5, 2000.
E.P. Danenberger,
Chief, Engineering and Operations Division.

[FR Doc. 00-18805 Filed 7-24-00; 8:45 am]

BILLING CODE 4310-MR-P